DEPARTMENT OF THE INTERIOR

National Park Service

[NPS-WASO-NAGPRA-NPS0039947; PPWOCRADN0-PCU00RP14.R50000]

Notice of Intended Repatriation: U.S. Department of the Interior, Bureau of Indian Affairs, Washington, DC

AGENCY: National Park Service, Interior.

ACTION: Notice.

SUMMARY: In accordance with the Native American Graves Protection and Repatriation Act (NAGPRA), the U.S. Department of the Interior, Bureau of Indian Affairs (BIA) intends to repatriate certain cultural items that meet the definition of unassociated funerary objects and that have a cultural affiliation with the Indian Tribes or Native Hawaiian organizations in this notice.

DATES: Repatriation of the cultural items in this notice may occur on or after May 19, 2025.

ADDRESSES: Tamara Billie, NAGPRA Manager, Bureau of Indian Affairs, 1001 Indian School Road NW, Mailbox 44, Albuquerque, NM 87104, telephone (505) 879-9711, email tamara.billie@bia.gov.

SUPPLEMENTARY INFORMATION: This notice is published as part of the National Park Service's administrative responsibilities under NAGPRA. The determinations in this notice are the sole responsibility of the BIA. Additional information on the determinations in this notice, including the results of the consultation, can be found in the summary or related records. The National Park Service is not responsible for the determinations in this notice.

Abstract of Information Available

A total of 984 cultural items have been requested for repatriation: 957 ceramic vessel fragments (GRSM 49652-GRSM49663, GRSM 172213-172223, GRSM 172229-172246), one unmodified stone (GRSM 172247), 10 shatter (GRSM 17226), two biface (GRSM 12227), 10 lithic flakes (GRSM 172225, GRSM 172228), two cores (GRSM 1722224, and two faunal bones (GRSM 172248).

Between 1935 and 1936, 984 cultural items were removed from a site in the Qualla Boundary, NC. Civilian Conservation Corps (CCC) Forestry Technician, George MacPherson, was authorized to conduct surface and pedestrian surveys of possible archeological sites when time permitted alongside his official trail work. Items were removed without permission or authorization. A review of archeological field notes and reports shows that the cultural items listed in this notice as unassociated funerary objects were placed with individual human remains at the burial. Information obtained during consultation, the items listed in this notice are culturally affiliated with the Eastern Band of Cherokee Indians, the Cherokee Nation, and the United Keetoowah Band of Cherokee Indians in Oklahoma.

Determinations

The BIA has determined that:

• The 984 unassociated funerary objects described in this notice are reasonably believed to have been placed intentionally with or near human remains and are connected, either at the time of death or later as part of the death rite or ceremony of a Native American culture according to the Native American traditional knowledge of a lineal descendant, Indian Tribe, or Native Hawaiian organization. The unassociated funerary objects have been identified by a preponderance of the evidence as related to human remains, specific individuals, or families, or removed from a specific burial site or burial area of an individual or individuals with cultural affiliation to an Indian Tribe or Native Hawaiian organization.

• There is a reasonable connection between the cultural items described in this notice and the Cherokee Nation; Eastern Band of Cherokee Indians; and the United Keetoowah Band of Cherokee Indians in Oklahoma.

Requests for Repatriation

Additional written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after May 19, 2025. If competing requests for repatriation are received, the BIA must determine the most appropriate requestor prior to repatriation. Requests for joint repatriation of cultural items are considered a single request and not competing requests. The BIA is responsible for sending a copy of this notice to the Indian Tribes and Native Hawaiian organizations identified in this notice and to any other consulting parties.

Authority: Native American Graves Protection and Repatriation Act, 25 U.S.C. 3004 and the implementing regulations, 43 CFR 10.9.

Dated: April 8, 2025.
Melanie O'Brien,
Manager, National NAGPRA Program.

[FR Doc. 2025-06637 Filed 4-17-25; 8:45 am]

BILLING CODE 4312-52-P